DEPARTMENT OF ENERGY

Federal Energy Regulatory Commission

[Docket No. EC01-118-000, et al.]

TransAlta USA Inc., et al.; Electric Rate and Corporate Regulation Filings

June 22, 2001.

Take notice that the following filings have been made with the Commission:

1. TransAlta USA Inc.

[Docket No. EC01-118-000]

Take notice that on June 13, 2001, TransAlta USA Inc. (TAUSA) tendered for filing, pursuant to section 203 of the Federal Power Act, 16 U.S.C. 824b (1994), and Part 33 of the Commission's Regulations, 18 CFR 33.1, et seq., an application for Commission approval of an internal corporate reorganization. Specifically, TAUSA proposes to (1) transfer the market-based rate schedules of Merchant Energy Group of the Americas, Inc. (MEGA) to its affiliate, TransAlta Energy Marketing (US) Inc. (TEMUS), and (2) transfer MEGA's 100 percent interest in Pierce Power LLC (which has a market-based rate tariff on file with the Commission) first to TEMUS, and then from TEMUS to TAUSA.

Comment date: July 5, 2001, in accordance with Standard Paragraph E at the end of this notice.

2. South Houston Green Power, L.P.

[Docket No. EG01-231-000]

Take notice that on June 15, 2001, South Houston Green Power, L.P. (the Applicant), with its principal office at 139 East Fourth Street, Cincinnati, Ohio 45202, filed with the Commission an application for determination of exempt wholesale generator status pursuant to Part 365 of the Commission's regulations.

Applicant states that it is a Delaware limited partnership engaged directly and exclusively in the business of holding ownership and license interests in several gas-fired cogeneration facilities located in the Texas City, Texas, with an aggregate capacity of approximately 248MW. Electric energy produced by the facility will be sold at wholesale or at retail exclusively to foreign consumers.

Comment date: July 13, 2001, in accordance with Standard Paragraph E at the end of this notice. The Commission will limit its consideration of comments to those that concern the adequacy or accuracy of the application.

3. BSPE, L.P.

[Docket No. EG01-232-000]

Take notice that on June 15, 2001, BSPE, L.P. (the Applicant), with its principal office at 139 East Fourth Street, Cincinnati, Ohio 45202, filed with the Commission an application for determination of exempt wholesale generator status pursuant to Part 365 of the Commission's regulations.

Applicant states that it is a Delaware limited partnership engaged directly and exclusively in the business of owning and licensing several gas-fired cogeneration facilities located in the Texas City, Texas, with an aggregate capacity of approximately 248MW. Electric energy produced by the facility will be sold at wholesale or at retail exclusively to foreign consumers.

Comment date: July 13, 2001, in accordance with Standard Paragraph E at the end of this notice. The Commission will limit its consideration of comments to those that concern the adequacy or accuracy of the application.

4. FPL Energy Upton Wind I, LP

[Docket No. EG01-233-000]

Take notice that on June 15, 2001, FPL Energy Upton Wind I, LP (the Applicant), with its principal office at 700 Universe Boulevard, Juno Beach, Florida 33408, filed with the Federal Energy Regulatory Commission (Commission), an application for determination of exempt wholesale generator status pursuant to Part 365 of the Commission's regulations.

Applicant states that it is a Delaware limited liability company engaged directly and exclusively in the business of developing and operating an approximately 80 MW wind-powered generating facility located in the County of Upton, Texas. Electric energy produced by the facility will be sold at wholesale or at retail exclusively to foreign consumers.

Comment date: July 13, 2001, in accordance with Standard Paragraph E at the end of this notice. The Commission will limit its consideration of comments to those that concern the adequacy or accuracy of the application.

5. FPL Energy Upton Wind II, LP

[Docket No. EG01-234-000]

Take notice that on June 15, 2001, FPL Energy Upton Wind II, LP (the Applicant), with its principal office at 700 Universe Boulevard, Juno Beach, Florida 33408, filed with the Commission an application for determination of exempt wholesale generator status pursuant to Part 365 of the Commission's regulations.

Applicant states that it is a Delaware limited liability company engaged directly and exclusively in the business of developing and operating an approximately 80 MW wind-powered generating facility located in the County of Upton, Texas. Electric energy produced by the facility will be sold at wholesale or at retail exclusively to foreign consumers.

Comment date: July 13, 2001, in accordance with Standard Paragraph E at the end of this notice. The Commission will limit its consideration of comments to those that concern the adequacy or accuracy of the application.

6. FPL Energy Upton Wind III, LP

[Docket No. EG01-235-000]

Take notice that on June 15, 2001, FPL Energy Upton Wind III, LP (the Applicant), with its principal office at 700 Universe Boulevard, Juno Beach, Florida 33408, filed with the Commission an application for determination of exempt wholesale generator status pursuant to Part 365 of the Commission's regulations.

Applicant states that it is a Delaware limited liability company engaged directly and exclusively in the business of developing and operating an approximately 80 MW wind-powered generating facility located in the County of Upton, Texas. Electric energy produced by the facility will be sold at wholesale or at retail exclusively to foreign consumers.

Comment date: July 13, 2001, in accordance with Standard Paragraph E at the end of this notice. The Commission will limit its consideration of comments to those that concern the adequacy or accuracy of the application.

7. FPL Energy Upton Wind IV, LP

[Docket No. EG01-236-000]

On June 15, 2001, FPL Energy Upton Wind IV, LP (the Applicant), with its principal office at 700 Universe Boulevard, Juno Beach, Florida 33408, filed with the Commission an application for determination of exempt wholesale generator status pursuant to Part 365 of the Commission's regulations.

Applicant states that it is a Delaware limited liability company engaged directly and exclusively in the business of developing and operating an approximately 40.3 MW wind-powered generating facility located in the County of Upton, Texas. Electric energy produced by the facility will be sold at wholesale or at retail exclusively to foreign consumers.

Comment date: July 6, 2001, in accordance with Standard Paragraph E at the end of this notice. The Commission will limit its consideration of comments to those that concern the adequacy or accuracy of the application.

8. PowerGen Energia Rt.

[Docket No. EG01-237-000]

On June 15, 2001, PowerGen Energia Rt. (Applicant), located at 1211 Budapest XXI, Gyepsor utca 1, Hungary, filed with the Federal Energy Regulatory Commission an application for determination of exempt wholesale generator status pursuant to Part 365 of the Commission's regulations.

Applicant will operate and maintain a natural gas-fired generating station with a maximum output of 389 MW located on Csepel Island in Budapest, Hungary (the Facility) on behalf of its affiliate, Csepeli Áramtermelö Rt. (CARt) pursuant to an operation and maintenance agreement between Applicant and CARt. CARt will sell the output of the Facility at wholesale and, possibly, at retail to customers outside of the United States.

Comment date: July 6, 2001, in accordance with Standard Paragraph E at the end of this notice. The Commission will limit its consideration of comments to those that concern the adequacy or accuracy of the application.

9. Csepeli Áramtermelö Rt.

[Docket No. EG01-238-000]

On June 15, 2001, Csepeli Áramtermelö Rt. (“Applicant”), located 1075 Budapest, Madách Imre t 13-14, Madách Trade Center, Building B, 6th Floor, Hungary, filed with the Federal Energy Regulatory Commission an application for determination of exempt wholesale generator status pursuant to Part 365 of the Commission's regulations.

Applicant owns a natural gas-fired generating station with a maximum output of 389 MW located on Csepel Island in Budapest, Hungary (the “Facility”). Applicant will sell the output of the Facility at wholesale and, possibly, at retail to customers located outside of the United States.

Comment date: July 6, 2001, in accordance with Standard Paragraph E at the end of this notice. The Commission will limit its consideration of comments to those that concern the adequacy or accuracy of the application.

10. SFG CLA Pittsfield LLC

[Docket No. EG01-239-000]

On June 18, 2001, SFG CLA Pittsfield LLC (the Applicant), a Delaware limited liability company with its principal place of business at 120 Long Ridge Road, Stamford, Connecticut 06927, filed with the Federal Energy Regulatory Commission an application for determination of exempt wholesale generator status pursuant to Part 365 of the Commission's regulations.

The Applicant is acquiring the beneficial ownership of a 165 MW natural gas-fired cogeneration facility located in Pittsfield, Massachusetts (the “Facility”) held under a trust agreement with State Street Bank and Trust Company. In its capacity as trustee, State Street Bank and Trust Company holds legal title to the Facility and leases the Facility to Pittsfield Generating Company, L.P. for the benefit of the Applicant. All capacity and energy from the facility is sold exclusively at wholesale.

Comment date: July 9, 2001, in accordance with Standard Paragraph E at the end of this notice. The Commission will limit its consideration of comments to those that concern the adequacy or accuracy of the application.

11. Consolidated Edison Company of New York

[Docket No. ER01-160-004]

Take notice that on June 20, 2001, Consolidated Edison Company of New York, Inc. (Con Edison), tendered for filing with the Federal Energy Regulatory Commission (Commission), a conformed rate schedule designation.

Con Edison states that a copy of this filing has been served upon O&R.

Comment date: July 11, 2001, in accordance with Standard Paragraph E at the end of this notice.

12. Consolidated Edison Company of New York

[Docket No. ER01-161-004]

Take notice that on June 20, 2001, Consolidated Edison Company of New York, Inc. (Con Edison) tendered for filing with the Federal Energy Regulatory Commission (Commission) a conformed rate schedule designation.

Comment date: July 11, 2001, in accordance with Standard Paragraph E at the end of this notice.

13. Southern Operating Companies

[Docket Nos. ER01-602-007 and ER01-1772-001]

Take notice that on June 19, 2001, Southern Company Services, Inc. (SCS), as agent for Alabama Power Company, Georgia Power Company, Gulf Power Company, Mississippi Power Company and Savannah Electric and Power Company (collectively, Southern Companies), tendered for filing substitute sheets for certain Southern Operating Companies Rate Schedules in compliance with a letter order of the Commission dated June 4, 2001. The Rate Schedules concern interchange service contracts between Southern Companies, SCS and Enron Power Marketing, Inc. (FERC No. 80); Sonat Power Marketing Inc. (FERC No. 81); Heartland Energy Services, Inc. (FERC No. 83); LG&E Power Marketing, Inc. (FERC No. 84); Catex Vitol, L.L.C. (FERC No. 85); PECO Energy Company (FERC No. 86); NorAm Energy Services, Inc. (FERC No. 87); Valero Power Services Company (FERC No. 89); Entergy Power, Inc. (FERC No. 91); Delhi Energy Services, Inc. (FERC No. 92); Citizens Lehman Power Sales (FERC No. 94); Eastex Power Marketing, Inc. (FERC No. 95); Louis Dreyfus Electric Power Inc. (FERC No. 96); Stand Energy Corporation (FERC No. 98); and Electric Clearinghouse, Inc. (FERC No. 99).

Comment date: July 10, 2001, in accordance with Standard Paragraph E at the end of this notice.

14. PEI Power II, LLC

[Docket No. ER01-1764-001]

Take notice that on June 19, 2001, PEI Power II, LLC (PEI), tendered for filing, with the Federal Energy Regulatory Commission (Commission), pursuant to the Commission's June 7, 2001 Order in the above-referenced proceeding, its Statement of Policy and Standards of Conduct designated as FERC Electric Tariff, Original Volume No. 1, numbered Original Sheet No. 4 and Original Sheet No. 5.

PEI respectfully requests that the Commission accept these tariff sheets, effective as of April 7, 2001.

Comment date: July 10, 2001, in accordance with Standard Paragraph E at the end of this notice.

15. Southern California Edison Company

[Docket No. ER01-2349-000]

Take notice, that on June 19, 2001, Southern California Edison Company (SCE) tendered for filing the following agreements between Nevada Power Company, Salt River Project Agricultural Improvement and Power District, SCE, and the Department of Water and Power of the City of Los Angeles (collectively Parties):

Amended & Restated Mohave Project Plant Site Conveyance and Co-Tenancy Agreement

Amended & Restated Mohave Project Operating Agreement

Amended & Restated Eldorado System Conveyance and Co-Tenancy Agreement

Amended & Restated Eldorado Operating Agreement

Amended & Restated Agreement for Additional Nevada Power Company Connection to Mohave Project 500 kV Switchyard

Facilities Services Agreement

The amended and restated agreements and the Facilities Services Agreement reflect the Parties' agreement to transfer the Mohave 500 kV Switchyard from the Mohave Project to the Eldorado System. Copies of this filing were served upon the Public Utilities Commission of the State of California, each of the Parties, and the California Independent System Operator

SCE requests that these agreements be made effective August 18, 2001.

Comment date: July 10, 2001, in accordance with Standard Paragraph E at the end of this notice.

16. Public Service Company of New Mexico

[Docket No. ER01-2350-000]

Take notice that on June 19, 2001, Public Service Company of New Mexico (PNM) submitted for filing two executed service agreements with the State of Nevada, Colorado River Commission (CRC), under the terms of PNM's Open Access Transmission Tariff. One agreement is for short-term firm point-to-point transmission service and one is for non-firm point-to-point transmission service.

The effective date for the agreements is May 29, 2001, the date of execution. PNM's filing is available for public inspection at its offices in Albuquerque, New Mexico.

Copies of the filing have been sent to CRC and to the New Mexico Public Regulation Commission.

Comment date: July 10, 2001, in accordance with Standard Paragraph E at the end of this notice.

17. PJM Interconnection, L.L.C.

[Docket No. ER01-2351-000]

Take notice that on June 19, 2001, PJM Interconnection, L.L.C. (PJM) tendered for filing an amendment to section 18.17.1 of the Amended and Restated Operating Agreement of PJM Interconnection, L.L.C. (Operating Agreement). The proposed amendment will permit the release of certain PJM member confidential information to the North American Electric Reliability Council and to neighboring reliability councils solely for the purpose of enhancing reliability in the Mid-Atlantic Area Council, the administrative functions of which are performed by PJM, and its neighboring reliability councils. Copies of this filing were served upon all PJM members and each state electric utility regulatory commission in the PJM control area

PJM requests an effective date of August 29, 2001.

Comment date: July 10, 2001, in accordance with Standard Paragraph E at the end of this notice.

18. Bridgeport Energy LLC

[Docket No. ER01-2352-000]

Take notice that on June 19, 2001, Bridgeport Energy LLC tendered for filing the First Amended and Restated Agreement between Bridgeport Energy LLC and Duke Energy Trading Marketing, LLC. Bridgeport seeks a waiver of the Commission's prior notice requirements.

Comment date: July 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16372 Filed 6-28-01; 8:45 am]

BILLING CODE 6717-01-P